POSTAL SERVICE

39 CFR Part 111

NetPost Mailing Online Experiment: Changes in Domestic Classifications and Fees

AGENCY: Postal Service.

ACTION: Final rule.

SUMMARY: This final rule sets forth the Domestic Mail Manual (DMM) standards adopted by the Postal Service to conduct the NetPost Mailing Online experiment pursuant to the favorable Decision of the Governors of the United States Postal Service on the Opinion and Recommended Decision of the Postal Rate Commission (PRC) on an Experimental Classification and Fee Schedule for Mailing Online (Docket No. MC2000-2). The experiment will begin September 1, 2000, and will be conducted for approximately three years. The Postal Service anticipates that by offering nationwide service on the Internet it will gain both valuable operational expertise and data that are necessary for a successful future filing of a request for permanent NetPost Mailing Online (formerly called Mailing Online) service. Customers will be able to use NetPost Mailing Online to prepare and transmit messages in electronic form using a personal computer and a Web browser for printing in hardcopy form and subsequent entry into the mailstream. As the service matures, hardcopy mail will be entered at a postal facility near one of a group of approximately 25 print sites that is located closest to the mail's delivery address. Individuals, small businesses, home offices, and charitable organizations are expected to make up the main customer base.

EFFECTIVE DATE: September 1, 2000.

FOR FURTHER INFORMATION CONTACT: Paul Lettmann, (202) 268-6261; or Kenneth N. Hollies, (202) 268-3083.

SUPPLEMENTARY INFORMATION: The NetPost Mailing Online experiment is the third of an expected four-step process that will culminate in the establishment of a permanent NetPost Mailing Online service. The Postal Service first conducted an operations test from March through September 1998, with a few customers. That was followed by a one-year market test with limited customer participation conducted from October 1998 through October 1999, pursuant to the Postal Rate Commission's Docket No. MC98-1 Opinion and Recommended Decision issued on October 7, 1998, and approved by the Postal Service Governors on October 16, 1998. In that docket, the Postal Service also requested authorization to conduct an experiment, which request was later withdrawn by Board of Governors Resolution No. 99-5 (May 3, 1999).

On November 16, 1999, the Postal Service filed a new Request for a Recommended Decision on an Experimental Classification and Fee Schedule for Mailing Online based on an upgraded information technology platform. The PRC designated this request as Docket No. MC2000-2 and published a notice with a description of the Postal Service's proposals in the Federal Register on November 26, 1999 (64 FR 66514). The PRC issued a favorable Opinion and Recommended Decision (Docket No. MC2000-2) dated June 21, 2000.

Accepting a Stipulation and Agreement developed by the Postal Service with several other parties, the Commission also recommended an adjustment to the limited waiver of minimum volume requirements in order to extend to providers of functionally equivalent services the same postage rates payable under NetPost Mailing Online.

The Postal Service Governors approved the Opinion and Recommended Decision on August 7, 2000, and the Board of Governors set September 1, 2000, as the implementation date (Resolution No. 00/10).

Background

The Postal Service views NetPost Mailing Online as fulfillment of its mandate to bind the nation together through the provision of secure and universal correspondence services to the public. The new “hybrid” service combines recent advances in electronic communications through the Internet, state-of-the-art printing technology, and conventional postal functions, thus creating an integrated service for the production, processing, and delivery of mail. Postal customers with access to a personal computer and the Internet will be able to create and transmit electronic documents to the Postal Service Web site. Their documents and address lists will be transmitted to one or more contract printers, who will then prepare them as hardcopy for mailing. The Postal Service maintains its commitment to the sanctity of mail by precluding others' access to or use of NetPost Mailing Online customers' electronic documents.

The NetPost Mailing Online service will appear from a user's perspective to be similar to the Mailing Online service that was offered during the market test. However, users will access the service by means of the Postal Service's main corporate Web site, usps.com, instead of PostOffice Online. In addition, the service will be available nationwide, rather than limited to five metropolitan areas and a few thousand customers.

During the market test, the Postal Service contracted with one printer to produce mailings for a relatively small number of customers. Currently, two printers are under contract with the Postal Service, one in Chicago and another in Philadelphia. The Postal Service plan for the experiment is to route mailpieces to the printer closest to their delivery address and to use as many printers as necessary for nationwide coverage. Printers will prepare the electronically transmitted mailpieces and address lists as automation basic rate mailings. NetPost Mailing Online thus helps to lower system costs by taking advantage of mail presorting, automation, and destination entry of mailings.

Service Description

NetPost Mailing Online provides an affordable, convenient option that makes using the mails easier for Postal Service customers, especially those running small offices or home offices who do not currently use more traditional mailing services. It employs advanced technology that benefits customers who otherwise might not have access to sophisticated digital printing technology or to list management and presort software necessary to qualify for lower automation rates. The Postal Service will batch all submitted jobs and send them via dedicated lines to one or more commercial digital printing contractors who then print the documents, finish them according to customer specifications, place them in envelopes bearing a delivery point barcode, and enter them as mail at a postal facility. Mailings will be accepted and verified using manifesting documentation and procedures specified in DMM P710.

Small-volume customers will be able to create First-Class Mail and Standard Mail (A) mailings and have them entered at the automation basic rates. There is no minimum or maximum volume requirement. The service is ideally suited for newsletters, flyers, statements, invoices, and small direct mailings. Customers can mail both letters and flats using a number of different document format, binding, and envelope options.

The Postal Service plans to offer service for mailings of letters and flats at Standard Mail (A) nonprofit automation rates some time in the future. While mailings at Priority Mail rates, First-Class Mail card rates, and Express Mail rates are not offered at this time, they should become available later during the experiment. The same is true for some special services. In the near future, service for international Letters and Letter Packages will be available.

In a single Web site visit to usps.com, a NetPost Mailing Online customer will be able to upload a word processing document and a list of addresses to a postal data center. The NetPost Mailing Online system will presort and distribute the mailing electronically to contract printers for printing and entry into the mail at a local postal facility. Additional features of the service include online document proofing, a “file cabinet” that retains customer jobs for 30 days and offers document and mailing list management capabilities, real-time status reports of jobs submitted, and a quick calculator that provides immediate price quotations.

A typical customer will compose a document using conventional desktop publishing or word processing software; access the Postal Service Web site and select various printing, finishing, and payment options; submit a mailing list for standardization based on the Postal Service's current address database; and complete submission of the job by sending the electronic version of the document and a mailing list to the Web site. All uploaded documents and mailing lists will be available for online proofing, and customers will have the option to receive copies of their documents either through the mail or by fax at no additional charge.

The software applications that are supported are Microsoft Word 6.0 or later, WordPerfect 6.0 or later, PageMaker 6.5 or later, VENTURA 7.0 or later, and QuarkXPress 3.2 or later. Mailing lists can be created in Microsoft Word 6.0 or later, WordPerfect 6.0 or later, Microsoft Access 95 or later, Excel 5.0 or later, or an ASCII text file. The service is accessible by means of widely used Internet browsers: Netscape 4.03 or later, or Microsoft Internet Explorer 4.01 or later. Any browser used must support JavaScript 1.2 or later.

Each uploaded mailing list will be checked against the Postal Service's National Address Management System to standardize the addresses, including abbreviations, directionals, and ZIP Codes. (Move update requirements for address quality are being waived temporarily while work is completed to integrate the FASTforward system with NetPost Mailing Online.) Unverifiable addresses will be extracted and returned for review and correction by the customer. Any addresses not in compliance with postal addressing standards will be purged from the address list prior to quotation of a final price. However, at the customer's option, pieces having nonstandard addresses may be mailed at the First-Class Mail single-piece rate.

While the service has been designed for ease of use, the Postal Service recognizes that customers may need assistance from time to time. This assistance is likely to range from basic “how to” questions to complex questions about software compatibility. The Postal Service has made provision for users to obtain online support seven days a week during the hours of 7:00 a.m. through 11:00 p.m. (EST). Customers can either telephone 1-800-344-7779 toll free or send an e-mail message to icustomercare@usps.com.

Pricing and Customer Payment

Customers will pay online with a major credit card for the applicable postage, plus a fee for commercial printing charges and other costs, such as those related to information technology. Prices will take into account any differences in printing and production costs around the country. Fees for NetPost Mailing Online service will be 1.52 times the sum of printer contractual costs for the particular mailing and $0.005 per impression (printing on one side of a page) for other Postal Service costs. Price quotes will be provided online for each mailing that individual customers create and will vary depending on such factors as paper size, number of impressions, use of spot color, finishing option (folding, stapling, saddle stitching, tape binding, self-mailer tabbing), envelope type, and print site.

NetPost Mailing Online totals the postage and production costs and displays a price quote on-screen as an order is created. If a customer changes any selection while creating the order, the displayed postage and fees also will change to reflect the new selection. The price quotes thus enable a customer to see immediately the effect of a selection upon the total cost. Once all information pertaining to a customer's job, including document options, delivery addresses, credit card authorization, and final price, are known and confirmed, a customer approves the transaction. The transaction then becomes final, and the total cost is billed to the customer's credit card account by NetPost Mailing Online, in accordance with the terms and conditions of use for the program.

Standard Mail (A) Mailings

Like other postal customers, NetPost Mailing Online customers may decide whether their mailings will be sent as First-Class Mail or Standard Mail (A), subject to the eligibility requirements for each mail class contained in the Domestic Mail Manual.

To help customers choose the proper postage rate, a screen is provided in the NetPost Mailing Online software. This screen notifies customers that a mailing sent as Standard Mail (A) could be subject to the payment of additional postage if it is later found to be ineligible for Standard Mail (A) rates. Eligibility requirements for items mailed as Standard Mail (A) are found in DMM E611 and E612, and information about items required to be sent as First-Class Mail is found in DMM E110. Customers also are advised that they may either consult their local post office or review pertinent sections of the DMM online at http://pe.usps.gov.

On occasion, Standard Mail (A) rates may be claimed in error. In such cases, the Postal Service has determined that all of the traditional procedures applicable to a customer's direct entry of a hardcopy mailing cannot apply to the NetPost Mailing Online service, because it is likely that a rate eligibility problem for a NetPost Mailing Online mailpiece would first be discovered only at the time it is presented commingled with the mailpieces of other customers. The Postal Service believes that it would be inappropriate to delay entry of the entire multicustomer mailing while a problem that may involve only one customer's mail is resolved. With a traditional mailing, when a rate eligibility problem is discovered by a Postal Service employee at the time a mailer presents a mailing to a post office acceptance unit, the mailer has an immediate choice of either paying the difference between the applicable First-Class Mail and the claimed Standard Mail (A) postage before the mailing is accepted, or withdrawing the mailing without paying the additional amount. A mailer might also elect to immediately challenge and seek appeal of the classification decision being made at that time in order to resolve the problem so that the mailing can proceed without further delay. (See DMM G020.)

The NetPost Mailing Online customer who submits the ineligible and underpaid electronic version of the mailpieces as Standard Mail (A) could be thousands of miles away from the entry post office. Moreover, by the time a printer presents the mail to an acceptance unit, the Postal Service will have incurred transaction costs, such as those associated with the electronic transmission of documents, address verification, production costs for printing and finishing, and transportation to the entry post office. Therefore, while NetPost Mailing Online and the contract printers will be responsible for meeting mail presorting and preparation requirements, content eligibility and revenue issues will be resolved after mail has entered the postal system, in accordance with the terms and conditions of use for the program.

Entry post offices will continue to use random sampling procedures to verify mail classification and rate eligibility as part of the acceptance process. If a customer has improperly claimed Standard Mail (A) rates, the Postal Service will accept the NetPost Mailing Online mailing without delaying it and without requiring a postage adjustment at the time of mailing. Subsequently, the entry post office will notify the NetPost Mailing Online coordinator of the deficiency. NetPost Mailing Online will in turn advise the manager of business mail entry, Northern Illinois District, who is the designated national coordinator responsible for debiting the NetPost Mailing Online centralized trust account for any revenue deficiencies that originate at print sites.

NetPost Mailing Online will review the circumstances of the mailing. If the classification decision that matter was ineligible for Standard Mail (A) rates is based upon a customer's failure to abide by content restrictions, the Postal Service may take steps to recover the deficiency amount from the customer by advising the customer that its credit card account will be billed for the difference between the applicable First-Class Mail rate and the rate paid, in accordance with the terms and conditions of use for the program. NetPost Mailing Online will make this notification to the customer. At this time, the customer also will be advised that the classification decision and related revenue deficiency may be appealed by submitting a letter to the Program Manager, NetPost Mailing Online, U.S. Postal Service, 475 L'Enfant Plaza SW, Washington, DC 20260-4413. If the customer appeals, NetPost Mailing Online will refer the appeal to the rates and classification service center in Chicago, Illinois, for a final agency decision.

Functionally Equivalent Systems

Under existing eligibility requirements for automation rates, First-Class Mail letters, flats, and cards must be prepared in minimum quantities of 500 pieces. Standard Mail (A) letters and flats must be prepared in minimum quantities of 200 pieces or 50 pounds of addressed mail. NetPost Mailing Online mailings that otherwise meet all addressing and machinability requirements for automation rates will be permitted entry at automation rates without meeting these minimum volumes. This same privilege also is available to other services that are functionally equivalent to NetPost Mailing Online after certification by the Postal Service.

The justification for such exceptions to otherwise applicable minimum volumes is based on expectations that NetPost Mailing Online volumes will usually exceed them (by a wide margin if the service is successful), deeper potential discounts will be foregone, processing costs will be inherently low, and the selection of a more appropriate set of current or new rate categories can await a permanent form of NetPost Mailing Online.

Certification of functional equivalence requires payment of a $100.00 fee and demonstration that the service is comparable to NetPost Mailing Online service and capable of all of the following as specified by the Postal Service:

a. Accepting documents and mailing lists from remote users in electronic form, such as via the Internet, or converting documents and mailing lists to electronic form.

b. Using the electronic documents, mailing lists, and other software, including USPS-certified sortation software that sorts to the finest level of sortation possible, to create barcoded mailpieces meeting the requirements for automation category mail, with 100 percent standardized addresses on all pieces claiming discounted rates.

c. Commingling mailpieces from all sources without diversion to any other system and batching them according to geographic destination prior to printing and mailing.

d. Generating volumes that exceed, on average, otherwise applicable minimum volumes.

The Postal Service is unaware of any existing functionally equivalent services, but is willing to work with interested parties as services are developed to improve the likelihood of certification.

Implementation

Pursuant to 39 U.S.C. 3624, the PRC, on June 21, 2000, issued to the Governors of the Postal Service its Opinion and Recommended Decision on the Postal Service's request.

Pursuant to 39 U.S.C. 3625, the Governors acted on August 7, 2000 (Decision of the Governors of the United States Postal Service on the Recommended Decision of the Postal Rate Commission on an Experimental Classification and Fee Schedule for Mailing Online, Docket No. MC2000-2), to approve the PRC's recommendation, and per resolution the Board of Governors set an implementation date of September 1, 2000, for fee and classification changes to take effect.

This final rule contains the DMM standards adopted by the Postal Service to implement the Governors' decision. Because of the experimental nature of NetPost Mailing Online service and previous experience with the Mailing Online market test, the Postal Service finds no need to solicit comments on the standards for NetPost Mailing Online. However, comments are invited in the expectation that these rules are likely to be modified during the course of the experiment.

List of Subjects in 39 CFR Part 111

Postal Service.

For the reasons discussed above, the Postal Service hereby adopts the following amendments to the Domestic Mail Manual, which is incorporated by reference in the Code of Federal Regulations (see 39 CFR part 111).

PART 111—[AMENDED]

1. The authority citation for 39 CFR part 111 continues to read as follows:

Authority: 5 U.S.C. 552(a); 39 U.S.C. 101, 401, 403, 404, 3001-3011, 3201-3219, 3403-3406, 3621, 3626, 5001.

2. Amend the Domestic Mail Manual as follows:

E ELIGIBILITY

E100 First-Class Mail

E110 Basic Standards

* * * * *

4.0 FEES

4.1 Presort Mailing

[Amend 4.1 by adding a last sentence that states that NetPost Mailing Online mailers pay fees in accordance with G091 to read as follows; no other changes to text.]

* * * Customers using NetPost Mailing Online service to create mailings pay fees under G091 and are not required to pay an annual presorted mailing fee.

* * * * *

E140 Automation Rates

1.0 BASIC STANDARDS

1.1 All Pieces

[Amend item b to exempt NetPost Mailing Online or a functionally equivalent service in G091 from the minimum volume requirement, to read as follows:]

All pieces in a First-Class Mail automation rate mailing must:

* * * * *

b. Be part of a single mailing of at least 500 pieces of automation rate First-Class Mail, subject to 1.2, or be part of a mailing using NetPost Mailing Online service or a functionally equivalent service under G091.

* * * * *

E612 Additional Standards for Standard Mail (A)

* * * * *

2.0 CONTENT

2.1 Circulars

[Amend 2.1 to reference NetPost Mailing Online, or a functionally equivalent service in G091, to read as follows:]

Circulars, including printed letters that, according to their contents, are sent in identical terms to more than one person are Standard Mail (A), or are provided for entry using NetPost Mailing Online service, or a functionally equivalent service, as provided in G091. A circular does not lose its character as such if a date and the individual names of the addressee and sender are written (handwritten or typewritten) on the circular or written corrections of typographical errors are made on the circular.

* * * * *

4.0 RATES

* * * * *

4.7 Annual Fees

[Amend 4.7 by adding a last sentence that references NetPost Mailing Online fees in G091 and exempts NetPost Mailing Online mailers from paying the annual presorted mailing fee; no other changes to text.]

* * * Customers who use NetPost Mailing Online service to create mailings pay fees in accordance with G091 and are not required to pay the annual presorted mailing fee.

* * * * *

4.9 Preparation

[Amend the first sentence in item b to reference NetPost Mailing Online or a functionally equivalent service in G091 to read as follows:]

Each Standard Mail (A) mailing is subject to these general standards:

* * * * *

b. Each mailing must contain at least 200 pieces or 50 pounds of pieces, or be provided for entry using NetPost Mailing Online service or a functionally equivalent service under G091.***

* * * * *

E640 Automation Standard Mail (A) Rates

1.0 REGULAR AND NONPROFIT RATES

1.1 All Pieces

[Amend item b to reference a NetPost Mailing Online or a functionally equivalent service under G091 to read as follows:]

All pieces in an automation rate Regular or Nonprofit Standard Mail (A) mailing must:

* * * * *

b. Be part of a single mailing of at least 200 pieces or 50 pounds of pieces of automation rate Standard Mail (Regular and Nonprofit mailings must meet separate minimum volumes), or be part of a mailing using NetPost Mailing Online or a functionally equivalent service under G091.

* * * * *

G GENERAL INFORMATION

* * * * *

G090 Experimental Classifications and Rates

[Add new G091 to read as follows:]

G091 NetPost Mailing Online

1.0 BASIC ELIGIBILITY

1.1 Service Description

The standards in G091 apply to documents that are produced electronically by a customer who pays postage and fees established for the NetPost Mailing Online experimental service and that a printer under contract with the Postal Service converts into hardcopy mailpieces and enters at a postal facility. Certain standards in G091 also are applicable to functionally equivalent services as certified by the USPS.

1.2 Customer Eligibility

Any customer who pays the postage and fees quoted by USPS for a mailing may use the NetPost Mailing Online service subject to the terms and conditions of use for the program.

1.3 Mailings

NetPost Mailing Online mailings will be produced and entered as follows:

a. Customers create documents and address lists on a computer and transmit them electronically via the USPS Web site (usps.com) to NetPost Mailing Online. If a mailpiece in a job is not eligible for an automation rate, a customer may choose to have it entered at the single-piece First-Class Mail rate. There is no minimum or maximum volume requirement for a customer job.

b. Customer jobs will be submitted by NetPost Mailing Online to one or more commercial contract printers for production as a hardcopy mailing.

c. A printer is required to do the following:

(1) Print customer jobs, finish documents, and place them in letter- or flat-size envelopes bearing delivery point barcodes.

(2) Prepare mailings to be eligible for First-Class Mail and Standard Mail (A) automation basic rates as required by standards in E140, E640, and M800.

(3) Print an approved manifest in accordance with P710 for each mailing presented for entry at a postal facility.

1.4 Special Services

Special services are not available for NetPost Mailing Online mailings.

2.0 MAIL CLASSIFICATION

2.1 Customer Responsibility

A customer who uses the NetPost Mailing Online service is responsible for claiming the proper rate of postage, subject to the eligibility requirements in E100 for First-Class Mail and E600 for Standard Mail (A). If Standard Mail (A) rates are claimed in error, the customer may be required to pay the difference between the applicable First-Class Mail postage rate and the claimed Standard Mail (A) postage rate, in accordance with the terms and conditions of use for the program. The USPS will accept the NetPost Mailing Online mailing without delaying it and without requiring a postage adjustment at the time of mailing.

2.2 Revenue Deficiency Procedures

If a classification decision is made by the USPS that matter was ineligible for Standard Mail (A) rates because of a customer's failure to meet applicable standards, the USPS may take steps to recover the deficiency amount by advising the customer that its credit card account will be billed for the difference between the applicable First-Class Mail rate and the Standard Mail (A) rate paid, in accordance with the terms and conditions of use for the program. At such time, the customer will also be advised that the classification decision and related revenue deficiency may be appealed by submitting a letter to the Program Manager, NetPost Mailing Online, U.S. Postal Service, 475 L'Enfant Plaza SW, Washington, DC 20260-4413. If the customer appeals, NetPost Mailing Online will refer it to the rates and classification service center in Chicago, Illinois, for a final agency decision.

3.0 FUNCTIONALLY EQUIVALENT SYSTEMS

NetPost Mailing Online mailings that otherwise meet all addressing and machinability requirements for automation rates are permitted entry at automation rates without meeting required minimum volumes for First-Class Mail and Standard Mail (A) mailings. The automation rates applicable to NetPost Mailing Online mailings are also available to other services that are functionally equivalent to NetPost Mailing Online, after certification by the USPS. Certification of functional equivalence requires payment of a $100 fee and demonstration that the service is comparable to NetPost Mailing Online service and capable of all of the following as specified by the USPS:

a. Accepting documents and mailing lists from remote users in electronic form, such as via the Internet, or converting documents and mailing lists to electronic form.

b. Using the electronic documents, mailing lists, and other software, including USPS-certified sortation software that sorts to the finest level of sortation possible, to create barcoded mailpieces meeting the requirements for automation category mail, with 100 percent standardized addresses on all pieces claiming discounted rates.

c. Commingling mailpieces from all sources without diversion to any other system and batching them according to geographic destination prior to printing and mailing.

d. Generating volumes that exceed, on average, otherwise applicable minimum volumes.

4.0 POSTAGE AND FEES

4.1 Postage

Documents that are mailed during the experiment are eligible for the following rate categories only:

a. First-Class Mail, automation basic (letters and flats).

b. First-Class Mail, single-piece.

c. Standard Mail (A) Regular, automation basic (letters and flats).

4.2 Service Fees

Fees for NetPost Mailing Online service are 1.52 times the sum of printer contractual costs for the particular mailing and $0.005 per impression (printing on one side of a page) for other USPS costs. Price quotes are provided online by NetPost Mailing Online for each mailing that is created and will vary depending on such factors as paper size, number of impressions, use of spot color, finishing option (folding, stapling, saddle stitching, tape binding, self-mailer tabbing), envelope type, and the print site.

4.3 Mailing Fees

NetPost Mailing Online customers are not required to pay an annual presorted mailing fee or permit imprint fee.

5.0 CONFIDENTIALITY OF ELECTRONIC AND HARDCOPY MESSAGES

Electronic documents submitted by customers to NetPost Mailing Online, including messages and mailing lists, are treated as confidential by the USPS. Other than as required to process customer jobs, pursuant to a federal warrant or otherwise pursuant to applicable law, the USPS itself will not review, disclose, or release the content of electronic materials submitted to NetPost Mailing Online. No other NetPost Mailing Online users are permitted to access a customer's documents, nor does the USPS make independent use of them. Once the documents are printed in hardcopy form, they are treated in accordance with E110 and E611.

6.0 REFUNDS AND LIMITATION OF LIABILITIES

6.1 Refunds

At the discretion of the USPS, refunds for NetPost Mailing Online postage and fees are available under P014.2. This standard provides the sole remedy available when matter submitted to NetPost Mailing Online is not delivered, not entered as hardcopy, or is not entered in the form specified by the NetPost Mailing Online customer.

6.2 NetPost Mailing Online Disclaimer

The USPS disclaims any responsibility for loss or negligent transmission of electronic files and mail on exactly the terms specified by the Federal Tort Claims Act (28 U.S.C. § 2680(b)) for traditional mail. Under no circumstances is the USPS liable for special or consequential changes that result from use or inability to use NetPost Mailing Online, which is provided “as is” and without warranties of any kind either express or implied. The terms and conditions upon which NetPost Mailing Online is provided to the public are governed solely by the applicable regulations and standards; as such, the USPS disclaims all warranties, express or implied, including, but not limited to, implied warranties of merchantability, fitness for a particular purpose, and good faith and fair dealing.

As provided by 39 CFR 111.3, notice of issuance will be published in the Federal Register.

Stanley F. Mires,
Chief Counsel, Legislative.

[FR Doc. 00-22044 Filed 8-28-00; 8:45 am]

BILLING CODE 7710-12-P